FEDERAL COMMUNICATIONS COMMISSION

[OMB 3060-1301; FR ID 263308]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before December 26, 2024.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page https://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1301.

Title: Preparation of Annual Reports to Congress for the Collection & Use of Fees for 988 Services by States & Other Jurisdictions Under the National Suicide Hotline Designation Act of 2020.

Form Number: N/A.

Type of Review: Extension of a currently-approved collection.

Respondents: State, Local, or Tribal Government.

Number of Respondents and Responses: 630 respondents; 630 responses.

Estimated Time per Response: 55 hours.

Frequency of Response: Annual reporting requirement.

Obligation to Respond: Voluntary. Statutory authority for this information collection is contained in National Suicide Hotline Designation Act of 2020, Public Law 116-172, 134 Stat. 832 (2020) (988 Act).

Total Annual Burden: 34,650 hours.

Total Annual Cost: No Cost.

Needs and Uses: This information collection enables the Federal Communications Commission (Commission) to fulfill its continuing obligations under the National Suicide Hotline Designation Act of 2020, Public Law 116-172, 134 Stat. 832 (2020) (988 Act), to submit an annual “Fee Accountability Report” to the Committees on Commerce, Science, and Transportation and Appropriations of the Senate, and the Committees on Energy and Commerce and Appropriations of the House of Representatives, detailing “the status in each State, political subdivision of a State, Indian Tribe, or village or regional corporation serving” an Alaska Native Claims Settlement Act region, of the collection and distribution of fees or charges for “the support or implementation of 9-8-8 services,” including “findings on the amount of revenues obligated or expended by each [state, political entity, and subdivision] for any purpose other than the purpose for which any such fees or charges are specified.” (988 Act, 134 Stat. at 833-34.)

The Commission will collect information for the preparation of the annual Fee Accountability Report through a survey, to be distributed via electronic mail, that appropriate officials of States and political subdivisions thereof, Indian Tribes, and village or regional corporations serving a region established pursuant to the Alaska Native Claims Settlement Act, as amended (43 U.S.C. 1601 et seq.) can use to submit data pertaining to the collection and distribution of revenues from fees and charges for the support or implementation of 988 services, including the use of such collected fees and charges for any purpose other than for the support or implementation of 988 services. In addition, consistent with the definition of “State” set forth in 47 U.S.C. 153(40) of the Communications Act, the Commission will collect this information from states as well as the District of Columbia and the inhabited U.S. Territories and possessions.

Federal Communications Commission.
Marlene Dortch,
Secretary, Office of the Secretary.

[FR Doc. 2024-27548 Filed 11-22-24; 8:45 am]

BILLING CODE 6712-01-P